DEPARTMENT OF HEALTH AND HUMAN SERVICES

Office of Inspector General

Announcement of Updated Requirements and Registration for “The Simple Extensible Sampling Tool Challenge”

AGENCY: Office of Inspector General (OIG), HHS.

ACTION: Notice.

SUMMARY: On September 29, 2016, OIG announced “The Simple Extensible Sampling Tool Challenge”. This notice serves as an update to the original notice which stated that upon receipt of an updated submission the previous submission would be excluded in its entirety from the competition. This updated notice removes this restriction for entries from teams that have been previously identified as finalists. Any finalist may update their entry without losing their finalist designation. Updates from the finalists will be accepted until 5:00 p.m. EST on the fourteenth day after the fifth finalist has been identified or May 15, 2017, 5:00 p.m. EST, whichever comes first. The newest entry from each team will be used for all judging purposes unless otherwise requested by the team. Other than the above change, all rules and requirements outlined in the September 29, 2016, Federal Register notice remain in effect.

Dated: December 21, 2016.
Daniel R. Levinson,
Inspector General.

[FR Doc. 2016-31182 Filed 12-23-16; 8:45 am]

BILLING CODE 4152-01-P